DEPARTMENT OF ENERGY

Federal Energy Regulatory Commission

Combined Notice of Filings #1

Take notice that the Commission received the following electric rate filings:

Docket Numbers: ER10-2865-003

Applicants: TransCanada Energy Sales Ltd.

Description: TransCanada Energy Sales Market Based Rate Tariff to be effective 9/18/2013.

Filed Date: 9/18/13

Accession Number: 20130918-5042

Comments Due: 5 p.m. ET 10/9/13

Docket Numbers: ER10-2870-003

Applicants: TransCanada Power Marketing Ltd.

Description: TransCanada Power Marketing Market Based Rate Tariff to be effective 9/18/2013.

Filed Date: 9/18/13

Accession Number: 20130918-5045

Comments Due: 5 p.m. ET 10/9/13

Docket Numbers: ER13-127-002

Applicants: Idaho Power Company

Description: Idaho Power Company submits Resubmitted OATT Order No. 1000 Second Regional Compliance Filing to be effective 10/1/2015.

Filed Date: 9/18/13

Accession Number: 20130918-5054

Comments Due: 5 p.m. ET 10/16/13

Docket Numbers: ER13-2395-000

Applicants: AEP Texas Central Company

Description: TCC-LCRA Transmission Services IA Amend #6 to be effective 8/28/2013.

Filed Date: 9/17/13

Accession Number: 20130917-5082

Comments Due: 5 p.m. ET 10/8/13

Docket Numbers: ER13-2396-000

Applicants: PJM Interconnection, L.L.C.

Description: Queue Position #W1-116— First Revised Service Agreement No. 2946 to be effective 5/25/2011.

Filed Date: 9/17/13

Accession Number: 20130917-5088

Comments Due: 5 p.m. ET 10/8/13

Docket Numbers: ER13-2397-000

Applicants: ISO New England Inc., New England Power Pool Participants Committee

Description: Reliability Commitment Mit. Rev. to Appendix A of MR1 to be effective 9/18/2013.

Filed Date: 9/17/13

Accession Number: 20130917-5103

Comments Due: 5 p.m. ET 10/8/13

Docket Numbers: ER13-2398-000

Applicants: Pacific Gas and Electric Company

Description: Western TFA for Department of Corrections and Rehabilitation (CDCR) to be effective 9/19/2013.

Filed Date: 9/18/13

Accession Number: 20130918-5008

Comments Due: 5 p.m. ET 10/9/13

Docket Numbers: ER13-2399-000

Applicants: MidAmerican Energy Company

Description: Transmission Interconnection Agreement—East River to be effective 9/1/2013.

Filed Date: 9/18/13

Accession Number: 20130918-5072

Comments Due: 5 p.m. ET 10/9/13

Take notice that the Commission received the following electric securities filings:

Docket Numbers: ES13-55-000

Applicants: Old Dominion Electric Cooperative, Inc.

Description: Application for Authorization to Issue Short- and Long-Term Debt, to Guaranty Obligations, and for Waivers of Old Dominion Electric Cooperative.

Filed Date: 9/17/13

Accession Number: 20130917-5114

Comments Due: 5 p.m. ET 10/8/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2013.
Nathaniel J. Davis, Sr.,
Deputy Secretary.

[FR Doc. 2013-23345 Filed 9-24-13; 8:45 am]

BILLING CODE 6717-01-P